DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) requesting extension of the currently approved collections. The ICRs describe the nature of the information collection and the expected burdens. The Federal Register Notice with a 60-day comment period soliciting comments on the following collections of information was published on 12/28/2000, page 82454.

DATES: Comments must be submitted on or before April 11, 2001. A comment to OMB is most effective if OMB receives it within 30 days of publication.

FOR FURTHER INFORMATION CONTACT: Judy Street on (202) 267-9895.

SUPPLEMENTARY INFORMATION:

Federal Aviation Administration (FAA)

1. Title: Federal Aviation Administration, Flight standards Customer Satisfaction Survey.

Type of Request: Extension of a currently approved collection.

OMB Control Number: 2120-0568.

Forms(s): N/A.

Affected Public: Customers of FAA Flight standards Organization: Pilots, aviation maintenance technicians, domestic air operators, corporate flight departments and air agencies.

Abstract: The FAA Flight Standards Service proposes to continue to survey customers in keeping with their strategic initiative to improve the quality of their service by anticipating customer's needs and responding to the public interest. Office managers and staff have used this information to identify where service performance can be improved.

Estimated Annual Burden Hours: 8,333 hours annually.

2. Title: Certifications and Operations: 14 CFR part 125.

Type of Request: Extension of a currently approved collection.

OMB Control Number: 2120-0085.

Forms(s): N/A.

Affected Public: Operators with airplanes with seating capacity of 20 or more passengers, maximum payload of 6,000 pounds or more, and applying for a FAR part 125 certificate and those with part 125 certificates. The number of respondents is estimated to be 57.

Abstract: 14 CFR part 125 will prescribe requirements for leased aircraft, aviation service firms and air travel clubs. Information collected shows compliance and the applicant's eligibility.

Estimated Annual Burden Hours: 29,445 hours annually.

3. Title: Office of Rulemaking Customer Standards Survey.

Type of Request: Extension of a currently approved collection.

OMB Control Number: 2120-0623.

Forms(s): N/A.

Affected Public: An estimated 325 FAA Office of Rulemaking exemption customers.

Abstract: The FAA Office of Rulemaking (ARM) proposes to continue to survey exemption customers on customer standards that were developed and published. The data collected will be analyzed by ARM to determine the quality of services provided by ARM to its exemption customers, and make any changes or improvements to the exemption process.

Estimated Annual Burden Hours: 81 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC, on March 2, 2001.
Steve Hopkins,
Manager, Standards and Information Division, APF-100.

[FR Doc. 01-6093 Filed 3-9-01; 8:45 am]

BILLING CODE 4910-13-M